DEPARTMENT OF THE INTERIOR

Bureau of Land Management

[AZAR 033067]

Public Land Order No. 7588; Partial Revocation of Public Land Order No. 3965; Arizona

AGENCY: Bureau of Land Management.

ACTION: Public Land Order.

SUMMARY: This order partially revokes a public land order insofar as it affects approximately 70 acres of National Forest System lands withdrawn for the Ferndell, Humboldt Peak Lookout, and Pine Administrative Sites. This order opens the National Forest System lands to mining.

EFFECTIVE DATE: November 26, 2003.

FOR FURTHER INFORMATION CONTACT: Cliff Yardley, BLM Arizona State Office, 222 North Central Avenue, Phoenix, Arizona 85004-2203, 602-417-9437.

SUPPLEMENTARY INFORMATION: The Forest Service has determined that a withdrawal is no longer needed on the lands described in Paragraph 1 and has requested the partial revocation. The lands withdrawn for the Pine Administrative Site have been conveyed out of Federal ownership and this is a record clearing action only for those lands.

Order

By virtue of the authority vested in the Secretary of the Interior by Section 204 of the Federal Land Policy and Management Act of 1976, 43 U.S.C. 1714 (2000), it is ordered as follows:

1. Public Land Order No. 3965, which withdrew National Forest System lands for several Forest Service administrative sites, is hereby revoked insofar as it affects the following described lands:

Tonto National Forest

Gila and Salt River Meridian

(a) Ferndell Administrative Site

T. 2 S., R. 15 E.,

Sec. 5, W½NE¼SE¼.

Humboldt Peak Lookout Administrative Site

T. 7 N., R. 5 E.,

Sec. 1, SE¼SW¼NW¼, NE¼NW¼SW¼, and NW¼NE¼SW¼.

(b) Pine Administrative Site

T. 12 N., R. 8 E.,

Sec. 36, W½NE¼SE¼.

The areas described aggregate approximately 70 acres.

2. At 10 a.m. on November 26, 2003, the lands described in Paragraph 1(a) will be opened to location and entry under the United States mining laws, subject to valid existing rights, the provisions of existing withdrawals, other segregations of record, and the requirements of applicable law. Appropriation of any of the lands described in this order under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Dated: October 6, 2003.
Rebecca W. Watson,
Assistant Secretary—Land and Minerals Management.

[FR Doc. 03-27004 Filed 10-24-03; 8:45 am]

BILLING CODE 3410-11-P